DEPARTMENT OF THE INTERIOR

Bureau of Land Management

[BLM_ID_FRN; MO# 4500183156]

Notice of Availability of the Record of Decision for the Lava Ridge Wind Project in Jerome, Lincoln, and Minidoka Counties, Idaho

AGENCY: Bureau of Land Management, Interior.

ACTION: Notice of availability.

SUMMARY: The Bureau of Land Management (BLM) announces the availability of the Record of Decision (ROD) for the Lava Ridge Wind Project Final Environmental Impact Statement (EIS). The ROD constitutes the decision of the BLM, as approved by the Department of the Interior (DOI).

DATES: The ROD was signed on Dec. 5, 2024.

ADDRESSES: The ROD is available at https://eplanning.blm.gov/eplanning-ui/project/2013782/510 and in hard copy at the BLM Shoshone Field Office, 400 W F St., Shoshone, ID 83352.

FOR FURTHER INFORMATION CONTACT: Kasey Prestwich, project manager, telephone 208-732-7204; address in ADDRESSES above; and email kprestwich@blm.gov. Individuals in the United States who are deaf, deafblind, hard of hearing, or have a speech disability may dial 711 (TTY, TDD, or TeleBraille) to access telecommunications relay services for contacting Mr. Prestwich. Individuals outside the United States should use the relay services offered within their country to make international calls to the point-of-contact in the United States.

SUPPLEMENTARY INFORMATION: The DOI has approved the BLM's decision to issue a right-of-way (ROW) grant for the Lava Ridge Wind Project. Consistent with the direction provided through the ROD and applicable laws and regulations, the BLM will issue Magic Valley Energy (MVE) a non-exclusive, non-possessory ROW grant with stipulations, to construct, operate and maintain, and decommission a wind-powered electrical generation facility on public lands within Jerome, Lincoln, and Minidoka counties, Idaho. The ROW grant will authorize MVE to develop and operate the project as described in an approved plan of development, updated consistent with the terms established in the ROD.

The ROW authorizes installation of up to 231 wind turbines, along with related infrastructure and facilities on BLM-managed public lands. The ROW grant issued by the BLM will require MVE to comply with terms and conditions, including project avoidance and minimization measures, fulfill compensatory mitigation requirements, adhere to processes established for the preservation of historic properties, and meet any additional requirements, such as obtaining additional permits or authorizations, established by Federal, State, or local laws.

The ROW area encompasses the BLM-managed public lands delineated and described in Appendices A and B of the ROD. The estimated total area of the ROW is 57,447 acres, with all project-related infrastructure and facilities confined within the designated siting corridors. The siting corridors, estimated to be 38,535 acres, limit the location of the project infrastructure to areas considered within the Lava Ridge Wind Project Final EIS; however, the final footprint of the project will be smaller and consistent with the disturbance area described in the Final EIS (the portion of ground disturbance on public lands is estimated to be 3,926 acres).

The decision to authorize this energy generation project on BLM-managed public lands is consistent with the Federal Land Policy and Management Act, as amended, and the BLM's ROW regulations (43 U.S.C. 1761; 43 CFR part 2800).

Approval of this ROW constitutes the final decision of the DOI and, in accordance with the regulations at 43 CFR 4.410(a)(3), is not subject to appeal under DOI regulations at 43 CFR part 4.

Michael C. Courtney,
Twin Falls District Manager.

[FR Doc. 2024-29099 Filed 12-10-24; 8:45 am]

BILLING CODE 4331-21-P